DEPARTMENT OF EDUCATION

Privacy Act of 1974; Computer matching Program

AGENCY: Department of Education.

ACTION: Notice—Computer Matching between the U.S. Department of Education and the Social Security Administration.

SUMMARY: Pursuant to the Computer Matching and Privacy Protection Act of 1988, Pub. L. 100-503, and the Office of Management and Budget (OMB) Guidelines on the Conduct of Matching Programs, a notice is hereby given of a computer matching program between the U.S. Department of Education (ED) (the recipient agency), and the Social Security Administration (SSA) (the source agency). This computer matching program between SSA and ED will become effective as explained below.

In accordance with the Privacy Act of 1974 (5 U.S.C. 552a), as amended by the Computer Matching and Privacy Protection Act of 1988 (Pub. L. 100-503), the Office of Management and Budget (OMB) Final Guidelines on the Conduct of Matching Programs (see 54 FR 25818, June 19, 1989), and OMB Circular A-130, we provide the following information:

1. Names of Participating Agencies

The U.S. Department of Education and the Social Security Administration.

2. Purpose of the Match

The purpose of this matching program between ED and SSA is to assist the Secretary of Education in his obligation to “verify immigration status and social security numbers [SSN] provided by a student to an eligible institution” under 20 U.S.C. 1091(g) and (p). The SSA will verify the issuance of an SSN to, and the citizenship status of, those students and parents who provide their SSN's in the course of applying for aid under a student financial assistance program authorized under Title IV of the Higher Education Act (HEA). Verification of this information by SSA will help ED to satisfy its obligation to ensure that the individual applying for financial assistance meets eligibility requirements imposed by the HEA.

Verification by this computer matching program effectuates the purpose of the statute, because it provides an efficient and comprehensive method of verifying the accuracy of each individual's SSN and claim to a citizenship status that permits that individual to qualify for Title IV, HEA assistance.

3. Legal Authority for Conducting the Matching Program

ED is authorized to participate in the matching program under sections 484(p)(20 U.S.C. 1091(p)); 484(g)(20 U.S.C.1091(g)); 483(a)(7)(20 U.S.C. 1090(a)(7)) and 428B(f)(2)(20 U.S.C. 1078-2(f)(2)) of the HEA.

The SSA is authorized to participate in the matching program under section 1106(a) of the Social Security Act, (42 U.S.C. 1306(a)), and the regulations promulgated pursuant to that section (20 CFR part 401).

4. Categories of Records and Individuals Covered by the Match

The Federal Student Aid Application File (18-11-01) (which contains the applicant information on authority from ED) and the ED PIN Registration System of Records (18-11-12) (which contains the applicant's information to receive an ED PIN), will be matched against SSA's Master Files of Social Security Numbers Holders and SSN Applications System, SSA/OSR, 60-0058 which maintains records about each individual who has applied for and obtained an SSN.

5. Effective Dates of the Matching Program.

This matching program will become effective after the Data Integrity Board of each agency approves the agreement and either 40 days after the approved agreement is sent to Congress and OMB (or later if OMB objects to some or all of the agreement), or 30 days after publication of this notice in the Federal Register, whichever date is later. The matching program will continue for 18 months after the effective date and may be extended for an additional 12 months thereafter, if the conditions specified in 5 U.S.C. 552a(o)(2)(D) have been met.

6. Address for Receipt of Public Comments or Inquires

Individuals wishing to comment on this matching program, or obtain additional information about the program, including a copy of the computer matching agreement between ED and SSA, should contact Ms. Edith Bell, Management and Program Analyst, U.S. Department of Education, Room 4021, ROB-3 400 Maryland Avenue, SW., Washington, DC 20202-5400. Telephone: (202) 708-5591. If you use a telecommunications device for the deaf (TDD), you may call the Federal Information Relay Service (FIRS) at 1-800-877-8339.

Individuals with disabilities may obtain this document in an alternative format (e.g., Braille, large print, audiotape or computer diskette) on request to the contact person listed in the preceding paragraph.

Electronic Access to the Document

You may view this document, as well as all other Department of Education documents published in the Federal Register, in text or Adobe Portable Document Format (PDF) on the Internet at the following sites:

http://ocfo.ed.gov/fedreg.htm

http://www.ed.gov/news.html

http://ifap.ed.gov

To use PDF you must have Adobe Acrobat Reader, which is available free at the first of the previous sites. If you have questions about using PDF, call the U.S. Government Printing Office (GPO), toll free, at 1-888-293-6498, or in the Washington, DC, area at (202) 512-1530.

Note: The official version of this document is the document published in the Federal Register.

Free Internet access to the official edition of the Federal Register and Code of Federal Regulations is available on GPO access at: http://www.access.gpo.gov/nara/index.html

Dated: February 6, 2001.
Greg Woods,
Chief Operating Officer, Office of Student Financial Assistance.

[FR Doc. 01-3422 Filed 2-9-01; 8:45 am]

BILLING CODE 4000-01-U